DEPARTMENT OF TRANSPORTATION

Federal Railroad Administration

[Docket No. FRA-2010-0020]

National Rail Plan

AGENCY: Federal Railroad Administration (FRA), Department of Transportation (DOT).

ACTION: Request for comments and establishment of public docket.

SUMMARY: This notice requests public comment for input into the development of the long-range National Rail Plan (NRP) through an open docket. In addition, the notice presents the overall plan design, Federal Railroad Administration's (FRA) goals in preparing the NRP, and issues that are expected to be addressed. This is FRA's first NRP. Public comments are solicited on the plan design, long-term goals of the NRP, and policy issues and questions noted below.

DATES: Public comments on this notice are due no later than June 4, 2010. However, since Congress has requested the completed plan by September 15, 2010, an aggressive timeline and schedule has been undertaken. For comments to be considered during the critical stages of plan development, they should be received no later than May 3, 2010.

ADDRESSES: Public comments. To ensure that comments are not entered into the docket more than once, please submit comments, identified by docket number [FRA-2010-0020], by only one of the following methods:

• Web site: The U.S. Government electronic docket site is http://www.regulations.gov. Go to this Web site and follow the instructions for submitting comments into docket number [FRA-2010-0020];

• Mail: Mail comments to U.S. Department of Transportation, 1200 New Jersey Avenue, SE., Docket Operations, MS-30, Room W12-140, Washington, DC 20590;

• Hand delivery or courier: Bring comments to the U.S. Department of Transportation, 1200 New Jersey Avenue, SE., Docket Operations, West Building Ground Floor, Room W12-140, Washington, DC 20590, between 9 a.m. and 5 p.m., Monday through Friday, except Federal holidays.

Instructions for submitting public comments: The agency name (Federal Railroad Administration) and the docket number [FRA-2010-0020] for this notice must be submitted with any comments. If comments are submitted by mail or by hand, please submit two copies of the comments. For confirmation that the FRA has received the comments, a self-addressed stamped postcard must be included. Note that all comments received by any method will be posted without change to http://www.regulations.gov, including any personal information provided, and will be available to Internet users. The Department's complete Privacy Act Statement is available for review in the Federal Register published April 11, 2000 (65 FR 19477), or by visiting http://www.regulations.gov.

FOR FURTHER INFORMATION CONTACT: Mr. Joel Palley, Office of Railroad Policy and Development, at (202)493-6409, Department of Transportation, Federal Railroad Administration, 1200 New Jersey Avenue, SE., Washington, DC 20590.

SUPPLEMENTARY INFORMATION:

Background: The Passenger Rail Investment and Improvement Act of 2008 (PRIIA) requires that the FRA develop a NRP. Prior to the development of the NRP, PRIIA also directed the FRA to develop a Preliminary National Rail Plan. That plan was submitted to Congress on October 15, 2009. (That plan is available at http://www.fra.dot.gov/Downloads/RailPlanPrelim10-15.pdf.) The Preliminary Plan laid the groundwork for developing policies to improve the U.S. transportation system and was developed in consultation with state and local government officials, the railroad industry, and other stakeholders. The Preliminary Plan set forth FRA's proposed approach to developing the long-range NRP, including goals and objectives for the greater inclusion of rail in the national transportation system. Although the Preliminary Plan did not generally offer specific recommendations, it did identify a number of issues that FRA believes should be considered in formulating the NRP. In short, it is designed to create a springboard for further discussion.

Following on this theme, FRA invites comment and discussion from parties interested in the development of a comprehensive NRP. Only through participation of all levels of government, carriers, shippers, commuter and passenger groups, rail labor, communities, and other stakeholders can FRA develop a complete and effective NRP. No specific format is required.

Plan Design: Both freight and passenger rail play a significant role in meeting the transportation needs of the U.S. economy. As the economy has expanded, rail in conjunction with the other modes and their infrastructure, which includes highway, waterway, pipeline, and air, work together to provide a cohesive network to deliver transportation services to customers. The efficiencies of this network have improved over the past decades and transportation customers have sought to lower transportation costs and those costs associated with transportation. The regulatory climate has also played a significant role in fueling those transportation improvements and subsequent efficiencies.

In addition to its role in meeting the needs of passenger and freight customers, rail is also proving that it can assist in meeting many of the nation's safety, energy, and environmental goals. And along with improved and new opportunities for intercity passenger and high-speed rail service, rail can help in reducing congestion in major corridors that have witnessed diminishing transportation capacity from evermore use.

The NRP will be composed of three principal components. These will include: First, a review of the current rail system and how it serves the nation. This will also include a summary of the rail system of each state based upon state rail plans and from other sources. This component will also look at projected demographic and traffic trends so an evaluation can be made with regard to future demand and needs for rail. This will lead into the second component of the plan; consideration of issues and policies that can ensure that the nation's rail system is truly considered in surface transportation discussions about moving people and goods. The third component of the plan will be a recommendation of programs, policies, and investments that will be required so the nation can be served with a transportation system that is safe and efficient.

In sum, the NRP must consider rail's increasing role in meeting the strategic goals of the nation and must provide a long-range outlook for programs and investments that can improve corridors and connections for passenger and freight use. Those goals include: Improving safety; improving fuel economy; fostering livable communities; increasing the competitiveness of the United States; better understanding and integrating the unique economics of the rail industry; helping to bolster the domestic passenger rail industry and create jobs; developing passenger high-speed rail; improving freight rail.

Policy Questions and Comments: As noted above in the plan design, the second component of the NRP will consider a broad array of issues and address a number of policy questions. In addition to comments on the plan design, FRA is soliciting responses from interested parties on these issues and questions, which are noted below:

1. What strategies are appropriate for funding freight transportation investments? What strategies are appropriate for funding passenger rail and high-speed passenger rail investments? How do we find sustainable sources of funding among Federal/State/Local/private sectors for passenger operations? How do we better assess the public benefits of railroad infrastructure improvements?

2. When assessing opportunities and challenges for implementing passenger rail service on freight rail lines and rights-of-way, what are the issues and concerns of infrastructure access and liability (owner vs. user)? In shared use rights-of-way (freight and passenger use), what are the best examples of access agreements with freight railroads? How can rail corridor development for passenger service be balanced with freight railroad service requirements to assure that freight service will not be impeded?

3. What are the issues that should be considered with Governance, such as roles and responsibilities, including national leadership as well as those of State, and local governments? What is the proper framework for multi-State/regional agreements when corridors extend beyond the boundaries of a single State?

4. What issues should be considered in network design and network development (corridors and connectivity)? What role should rail play? What modal issues arise —cooperation vs. competition? What are the best approaches to assess system performance? Should national standards be considered?

5. Identify areas where transportation safety can continue to improve (include technological and operational changes)? What consideration should be given to equipment improvement? What are the issues in joint freight and passenger use of track/corridors?

6. What issues should be addressed to continue and advance the rail system to effectively meet defense, emergency, and security transportation requirements?

7. What are the land use issues that must be considered in making transportation infrastructure investments? How can rail promote livable communities?

8. What opportunities does rail provide to improve energy use and the environment (include both technological and operational changes)?

9. What are the opportunities and challenges for professional capacity building—passenger and freight? What are the challenges facing the nation in developing a labor force to meet the needs of a highly technical rail network considering implementation of high-speed rail and technological advances such as positive train control and electronically controlled pneumatic brakes?

10. When making infrastructure investments, how can project delivery be expedited and costs controlled?

Issued in Washington, DC, on March 26, 2010.
Karen J. Rae,
Deputy Administrator.

[FR Doc. 2010-7543 Filed 4-2-10; 8:45 am]

BILLING CODE 4910-06-P